ENVIRONMENTAL PROTECTION AGENCY

[FRL-9993-06-Region 5]

Clean Air Act Operating Permit Program; Petition for Objection to State Operating Permit for Cargill, Inc.

AGENCY: Environmental Protection Agency (EPA).

ACTION: Notice of final order on petition to object to Clean Air Act title V operating permit.

SUMMARY: The Environmental Protection Agency (EPA) Administrator signed an Order dated March 20, 2019, denying a petition dated July 11, 2014 from Michelle Ford (Petitioner). The Petitioner requested that EPA object to a Clean Air Act (CAA) title V operating permit issued by the Illinois Environmental Protection Agency (IEPA) to Cargill, Inc. (Cargill) for its Bloomington, Illinois, soybean processing facility.

ADDRESSES: EPA requests that you contact the individual listed in the FOR FURTHER INFORMATION CONTACT section to view copies of the final Order, the Petition, and other supporting information. You may review copies of the final Order, the Petition, and other supporting information at the EPA Region 5 Office, 77 W Jackson Blvd., Chicago, Illinois 60604. You may view the hard copies Monday through Friday, from 9 a.m. to 4 p.m., excluding Federal holidays. If you wish to examine these documents, you should make an appointment at least 24 hours before the visiting day. Additionally, the final Order and Petition are available electronically at: https://www.epa.gov/title-v-operating-permits/title-v-petition-database.

FOR FURTHER INFORMATION CONTACT: David Ogulei, Environmental Engineer, Air Permits Section, Air Programs Branch (AR-18J), Environmental Protection Agency, Region 5, 77 West Jackson Boulevard, Chicago, Illinois 60604, (312) 353-0987, ogulei.david@epa.gov.

SUPPLEMENTARY INFORMATION: The CAA affords EPA a 45-day period to review, and object, as appropriate, to title V operating permits proposed by State permitting authorities. Section 505(b)(2) of the CAA authorizes any person to petition the EPA Administrator within 60 days after the expiration of the EPA review period to object to a title V operating permit if EPA has not done so on its own initiative. Petitions must be based only on objections to the permit that were raised with reasonable specificity during the public comment period provided by the State, unless the petitioner demonstrates that it was impracticable to raise issues during the comment period, or the grounds for the issues arose after this period.

On July 11, 2014, the Petitioner submitted a petition requesting that EPA object, pursuant to section 505(b)(2) of the CAA and 40 CFR 70.8(d), to the title V permit that IEPA issued on April 21, 2014 to Cargill for its Bloomington, Illinois, soybean processing facility. The Petitioner alleged that (1) the permit contains vague and undefined terms, including “properly operated,” “reasonable steps,” “reasonable times,” “any records,” “other parameters,” “standard test methods,” and an unclear date for when EPA notice started, among others; (2) the inspection provisions of the permit are inadequate because Cargill is forewarned of any inspections, may delay inspections, and has ample opportunity to correct any issues that would be found during inspection; (3) the permit improperly authorizes Cargill to operate “outdated” pre-1973 equipment and does not mandate upgrades to equipment to ensure compliance with permit limits; (4) the monitoring and control requirements of the permit are insufficient to address the facility's alleged historical violations of particulate matter emission limits; (5) the permit's recordkeeping requirements are inadequate because they do not require daily recordkeeping of the amount of grain processed; and (6) area residents' health, property and quality of life, including the ability to open windows or enjoy their property outdoors, have been severely impacted by Cargill's continued operation.

On March 20, 2019, the Administrator issued an order denying the petition. The order explains the basis for EPA's decision.

Sections 307(b) and 505(b)(2) of the CAA provide that a petitioner may request judicial review of those portions of an order that deny issues in a petition. Any petition for review of the Administrator's March 20, 2019 Order shall be filed in the United States Court of Appeals for the appropriate circuit no later than July 1, 2019.

Dated: April 18, 2019.
Cathy Stepp,
Regional Administrator, Region 5.

[FR Doc. 2019-08976 Filed 5-1-19; 8:45 am]

BILLING CODE 6560-50-P